DEPARTMENT OF HEALTH AND HUMAN SERVICES

Centers for Disease Control and Prevention

CDC Moving Forward Reorganization

AGENCY: Centers for Disease Control and Prevention, (CDC), Department of Health and Human Services (HHS).

ACTION: General notice.

SUMMARY: The Centers for Disease Control and Prevention (CDC), an agency within the Department of Health and Human Services (HHS), announces a reorganization. The CDC Director is modernizing the agency's organizational structure to better position the agency to respond to and tackle future public health threats.

DATES: This reorganization was approved by the Secretary of HHS on January 24, 2023, and became effective February 8, 2023.

FOR FURTHER INFORMATION CONTACT: D'Artonya Graham, Office of the Chief Operating Officer, Office of the Director, Centers for Disease Control and Prevention, 1600 Clifton Road NE, MS TW-2, Atlanta, GA 30329; Telephone 770-488-4401; Email: reorgs@cdc.gov.

SUPPLEMENTARY INFORMATION: Part C (CDC) of the Statement of Organization, Functions, and Delegations of Authority of the Department of Health and Human Services (45 FR 67772-76, dated October 14, 1980, and corrected at 45 FR 69296, October 20, 1980, amended most recently at 87 FR 51670-51675, dated August 23, 2022) is amended to reflect the reorganization of CDC. Specifically, the changes are as follows:

Under Part C, Section C-B, Organization and Functions, delete and/or update functional statements for CDC in their entirety and replace with the following:

I. Under Part C, Section C-B, Organization and Functions, the following organizational units are deleted in their entirety:

• Office of the Associate Director for Global Health Coordination (CAE)

• Deputy Director for Public Health Service and Implementation Science (CB)

• Center for Global Health (CBB)

• Center for Preparedness and Response (CBC)

• Center for State, Tribal, Local and Territorial Support (CBD)

• Office of Minority Health and Health Equity (CBE)

• Deputy Director for Public Health Science and Surveillance (CP)

• Office of Science (CPP)

• Office of Laboratory Science and Safety (CPQ)

• National Center for Health Statistics (CPC)

• Center for Surveillance, Epidemiology and Laboratory Services (CPN)

• Deputy Director for Non-Infectious Diseases (CU)

• National Center on Birth Defects and Developmental Disabilities (CUB)

• National Center for Chronic Disease Prevention and Health Promotion (CUC)

• National Center for Environmental Health (CUG)

• National Center for Injury Prevention and Control (CUH)

• Deputy Director for Infectious Diseases (CV)

• National Center for Immunization and Respiratory Diseases (CVG)

• National Center for Emerging and Zoonotic Infectious Diseases (CVL)

• National Center for HIV, Viral Hepatitis, STD, and TB Prevention (CVJ)

II. Under Part C, Section C-B, Organization and Functions, make the following changes:

• Retitle the Office of the Director to the Immediate Office of the Director (CA)

• Retitle the Office of the Associate Director for Policy and Strategy to the Office of Policy, Performance, and Evaluation (CAQ)

• Retitle the Office of the Associate Director for Communication to the Office of Communications (CAU)

III. Under Part C, Section C-B, Organization and Functions, insert the following:

• Office of Readiness and Response (CAD)

• Center for Forecasting and Outbreak Analytics (CADB)

• Office of Health Equity (CAG)

• Office of Science (CAH)

• Office of Public Health Data, Surveillance, and Technology (CAK)

• National Center for Health Statistics (CAKB)

• Office of Laboratory Science and Safety (CAN)

• National Center for Injury Prevention and Control (CE)

• National Center on Birth Defects and Developmental Disabilities (CF)

• National Center for State, Tribal, Local, and Territorial Public Health Infrastructure and Workforce (CH)

• National Center for Immunization and Respiratory Diseases (CJ)

• National Center for HIV, Viral Hepatitis, STD and TB Prevention (CK)

• National Center for Chronic Disease Prevention and Health Promotion (CL)

• National Center for Environmental Health (CN)

• National Center for Emerging and Zoonotic Infectious Diseases (CR)

• Global Health Center (CW)

Delegations of Authority

All delegations and redelegations of authority made to officials and employees of affected organizational components will continue in them or their successors pending further redelegation, provided they are consistent with this reorganization.

(Authority: 44 U.S.C. 3101)

Dated: February 7, 2023.
Xavier Becerra,
Secretary, Department of Health and Human Services.

[FR Doc. 2023-02929 Filed 2-10-23; 8:45 am]

BILLING CODE 4160-18-P